DEPARTMENT OF DEFENSE

Department of the Army

Availability of U.S. Patents for Non-Exclusive, Exclusive, or Partially-Exclusive Licensing

AGENCY: U.S. Army Research Laboratory, Adelphi, Maryland, DoD.

ACTION: Notice.

SUMMARY: In accordance with 37 CFR 404.6, announcement is made of the availability of the following U.S. patent for non-exclusive, partially exclusive or exclusive licensing. The listed patent has been assigned to the United States of America as represented by the Secretary of the Army, Washington, DC.

This patent covers a wide variety of technical arts including: A wide dynamic range RF mixer using wide bandgap semiconductors such as SiC.

Under the authority of section 11(a)(2) of the Federal Technology Transfer Act of 1986 (Public Law 99-502) and section 207 of Title 35, United States Code, the Department of the Army as represented by the U.S. Army Research Laboratory wish to license the U.S. patent listed below in a non-exclusive, exclusive or partially exclusive manner to any party interested in manufacturing, using and/or selling devices or processes covered by this patent.

Title: Wide Dynamic Range RF Mixers Using Wide Bandgap Semiconductors.

Inventors: Christian Fazi and Philip G. Neudeck

Patent Number: 6,111,452.

Issued Date: August 29, 2000.

FOR FURTHER INFORMATION CONTACT: Norma Cammaratta, Technology Transfer Office, AMSRL-CS-TT, U.S. Army Research Laboratory, Adelphi, MD 20783-1197; tel: (301) 394-2952; fax: (301) 394-5818.

SUPPLEMENTARY INFORMATION: None.

Gregory D. Showalter,
Army Federal Register Liaison Officer.

[FR Doc. 00-28390 Filed 11-3-00; 8:45 am]

BILLING CODE 3710-08-M